NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 9, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Records Management Services (ACNR), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Grain Inspection, Packers, and Stockyards Administration (N1-545-08-12, 8 items, 8 temporary items). Records of the Departmental Initiatives and International Affairs division, including records created in investigating international complaints and data and material created to contribute to larger government- or department-wide initiatives, external collaborative projects, and outreach programs.

2. Department of Agriculture, Risk Management Agency (N1-258-09-3, 1 item, 1 temporary item). Good Farming Practice Documentation, including producer documentation, request letters, company claims files, and expert opinions used to allow producers to seek reconsideration of adverse good farming practice determinations.

3. Department of Agriculture, Risk Management Agency (N1-258-09-4, 1 item, 1 temporary item). Records of large claims reviews including claims review request letters, company claim files, and expert opinions.

4. Department of the Army, Agency-wide (N1-AU-10-50,1 item, 1 temporary item). Master files of an electronic information system used to track information on Equal Employment Opportunity discrimination complaint cases.

5. Department of Commerce, Bureau of Economic Analysis (N1-375-10-5, 14 items, 12 temporary items). Records related to economic statistics including general correspondence, methodologies, intermediary economic data, initial estimates of Federal expenditures, state and local government financial and labor data, and supporting documents including drafts and reference material used to generate final products. Proposed for permanent retention are official publications, speeches, and final reports.

6. Department of Commerce, International Trade Administration (N1-489-10-1, 22 items, 19 temporary items). Records relating to the chief information office, including web site content records, transaction files, background files, non-case specific briefing materials, legislation files, negotiation files, review files, unfair trade practices files, and administrative files. Proposed for permanent retention are eGov Official Managing Partner records, President's Export Council Program files, and President's Export Council Official Recommendations and Reports.

7. Department of Health and Human Services, Administration for Children and Families (N1-292-10-3, 10 items, 10 temporary items). Master files and outputs of electronic information systems used to provide employment and location information to state and Federal officials for use in child support enforcement activities.

8. Department of Health and Human Services, Centers for Medicare & Medicaid Services (N1-440-09-10, 5 items, 3 temporary items). Master files of electronic information systems containing information on Medicare and Medicaid program enrollment and utilization data for beneficiaries enrolled in hospital insurance or medical insurance. Also included are surveys and financial expenditure reports. Proposed for permanent retention are a sampling of standard analytical files created annually for claims closed that fiscal year.

9. Department of Homeland Security, U.S. Citizenship and Immigration Services (N1-566-11-1, 2 items, 2 temporary items). Master files of an electronic information system containing reports to headquarters on significant security incidents such as violations of laws or regulations including loss, theft, or damage to government property or information and disruptions such as fire alarms, loss of utilities, and evacuations.

10. Department of Homeland Security, Secret Service (N1-87-11-6, 1 item, 1 temporary item). Master files of an electronic information system containing digital photographs used for inspecting the undercarriages of vehicles.

11. Department of Justice, Federal Bureau of Investigation (N1-65-10-24, 7 items, 6 temporary items). Records relating to security risk assessments, including case files for individuals and entities and related tracking systems. Proposed for permanent retention are assessment policy files.

12. Department of Justice, Federal Bureau of Investigation (N1-65-11-22, 4 items, 2 temporary items). Miscellaneous non-subversive administrative records and routine case files. Proposed for permanent retention are policy files and significant case files.

13. Department of State, Bureau of Diplomatic Security (N1-59-11-14, 5 items, 5 temporary items). Records of the Office of the Chief Financial Officer, including routine budget correspondence, apportionments, allotments, reimbursements, and miscellaneous obligations files.

14. Department of the Treasury, Internal Revenue Service (N1-58-09-80, 3 items, 3 temporary items). Master files and system documentation of an electronic information system used to share reference information related to criminal investigations.

15. Department of the Treasury, Internal Revenue Service (N1-58-09-84, 13 items, 13 temporary items). Master files, outputs, and system documentation of an electronic information system used to access taxpayer information for tax processing.

16. Department of the Treasury, Internal Revenue Service (N1-58-10-6, 7 items, 7 temporary items). Master files, inputs, and system documentation of an electronic information system used to track the status of criminal investigations.

17. Department of the Treasury, Internal Revenue Service (N1-58-10-8, 35 items, 35 temporary items). Records of the Taxpayer Advocate Division including non-significant case files, customer satisfaction survey reports, grant case files, trip files, and administrative files.

18. Architectural and Transportation Barriers Compliance Board, also known as the Access Board, Agency-wide (N1-588-11-1, 18 items, 9 temporary items). Background materials to rulemaking files, directives, and other substantive agency issuances; compliance and complaints case files; web site records including content maintained in other recordkeeping files; and other facilitative records. Proposed for permanent retention are official board records, rulemaking files, and other substantive records documenting basic program management functions.

19. Environmental Protection Agency, Gulf Coast Ecosystem Restoration Task Force (N1-220-11-1, 5 items, 4 temporary items). Files relating to Task Force activities not containing unique information of historical value; web site records, including electronic versions of web sites, web site design, management, and technical operation records; and electronic versions of content records duplicated in paper Task Force records. Proposed for permanent retention are files documenting the Task Force's establishment, membership, policy, organization, deliberations, findings, and recommendations.

20. Farm Credit Administration, Agency-wide (N1-103-11-1, 19 items, 12 temporary items). Records include general correspondence, non-substantive drafts and background materials, administrative program operation records, and guidance and office records. Proposed for permanent retention are program records documenting mission-related activities including decisions made by the agency board, public and congressional communications, financial data, public rulemaking files, charters and by-laws, legal opinions, and litigation records.

21. Office of the Director of National Intelligence, Office of Policy, Plans, and Requirements (N1-576-09-5, 28 items, 9 temporary items). Records relating to policy development, strategic planning, and security requirements for the intelligence community, including internal briefings, staff level committees, web records, non-substantive working papers and drafts, and reference files. Proposed for permanent retention are senior level correspondence, program and policy files, security standards reports, emergency planning records, strategic planning records, external briefings, and substantive working papers and drafts.

22. United States Patent and Trademark Office, Office of the Chief Information Officer (N1-241-10-1, 26 items, 24 temporary items). Records related to patent granting and maintenance including abandoned patent applications, preliminary examination working files, records related to foreign patent application granting, quality review files, legal records including correspondence and policy comments, patent examiner training records, and other administrative records that support the patent granting process. Proposed for permanent retention are patent program and policy subject files that document procedures, projects, and management decisions and the granted patent case files.

Dated: August 3, 2011.
Julie H. Reaves,
Acting Chief Records Officer for the U.S. Government.

[FR Doc. 2011-20410 Filed 8-9-11; 8:45 am]

BILLING CODE 7515-01-P